DEPARTMENT OF DEFENSE

Office of the Secretary

[Transmittal Nos. 14-44]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 14-44 with attached transmittal, policy justification, and sensitivity of technology.

Dated: September 24, 2014.
Aaron Siegel,
Alternate OSD Federal Register Liaison Officer, Department of Defense.

BILLING CODE 5001-06-P

BILLING CODE 5001-06-C

Transmittal No. 14-44

Notice of Proposed Issuance of Letter of Offer Pursuant to Section 36(b)(1) of the Arms Export Control Act, as amended

(i) Prospective Purchaser: Poland

(ii) Total Estimated Value:

Major Defense Equipment * | $270 million
Other | $230 million
TOTAL | $500 million

(iii) Description and Quantity or Quantities of Articles or Services under Consideration for Purchase: 40 AGM-158A Joint Air-to-Surface Standoff Missiles (JASSM), 2 AGM-158A JASSM Live with Test Instrumentation Kit (TIK) and Flight Termination Systems (FTS), 2 AGM-158A JASSM Inert with TIK and FTS, and 2 Flight Certification Test Vehicles. Also included: Operational Flight Plan upgrade to M6.5 tape for the Polish F-16C/D Block 52 aircraft to include JASSM integration, missile containers, spare and repair parts, support and test equipment, publications and technical documentation, personnel training and training equipment, U.S. Government and contractor engineering, technical, and logistics support services, and other related elements of logistical and program support.

(iv) Military Department: Air Force (YAB)

(v) Prior Related Cases, if any: FMS case SAC and amendments-$3.5B-23Apr03

(vi) Sales Commission, Fee, etc., Paid, Offered, or Agreed to be Paid: None

(vii) Sensitivity of Technology Contained in the Defense Article or Defense Services Proposed to be Sold: See Attached Annex

(viii) Date Report Delivered to Congress: 17 Sep 14

* As defined in Section 47(6) of the Arms Export Control Act.

POLICY JUSTIFICATION

Poland—Joint Air-to-Surface Standoff Missiles and F-16 Operational Flight Plan Upgrade

The Government of Poland has requested a possible sale of 40 AGM-158A Joint Air-to-Surface Standoff Missiles (JASSM), 2 AGM-158A JASSM Live with Test Instrumentation Kit (TIK) and Flight Termination Systems (FTS), 2 AGM-158A JASSM Inert with TIK and FTS, and 2 Flight Certification Test Vehicles. Also included: Operational Flight Plan upgrade to M6.5 tape for the Polish F-16C/D Block 52 aircraft to include JASSM integration, missile containers, spare and repair parts, support and test equipment, publications and technical documentation, personnel training and training equipment, U.S. Government and contractor engineering, technical, and logistics support services, and other related elements of logistical and program support. The estimated cost is $500 million.

The proposed sale will contribute to the foreign policy and the national security objectives of the United States by helping to improve the security of a NATO ally. Poland continues to be an important force for political stability and economic progress in Central Europe.

The proposed sale will improve Poland's capability to meet current and future threats of enemy air and ground weapons systems. Poland will use the enhanced capability as a deterrent to regional threats and to strengthen its homeland defense. These weapon and capability upgrades will allow Poland to strengthen its air-to-ground strike capabilities and increase its contribution to future NATO operations.

The proposed sale of the weapons, equipment, and support will not alter the basic military balance in the region.

The principal contractor will be Lockheed Martin in Ft. Worth, Texas. There are no known offset agreements proposed in connection with this potential sale.

Implementation of this proposed sale will not require the assignment of any additional U.S. Government or contractor representatives to Poland.

There will be no adverse impact on U.S. defense readiness as a result of this proposed sale.

Transmittal No. 14-44

Notice of Proposed Issuance of Letter of Offer Pursuant to Section 36(b)(1) of the Arms Export Control Act

Annex

Item No. vii

(vii) Sensitivity of Technology:

1. The AGM-158 is a 200+ nautical mile range low-observable, highly survivable subsonic cruise missile designed to penetrate next generation air defense systems en route to target. It is designed to kill hard, medium-hardened, soft and area type targets. It uses a Selective Availability Anti-Spoofing Module based Global Positioning System (GPS) receiver and a scene matching infrared seeker that uses a wire-frame Terminal Area Model (TAM) of the target area to hit fixed and relocatable targets with greater accuracy than GPS alone. Classification of the technical data and information on the AGM-158's performance, capabilities, systems, sub-systems, operations, and maintenance will range from Unclassified to Secret. The highest level of classified information required for training, operation and maintenance is Secret.

2. If a technologically advanced adversary were to obtain knowledge of the specific hardware and software elements, the information could be used to develop countermeasures that might reduce weapon system effectiveness or be used in the development of a system with similar or advanced capabilities.

3. A determination has been made that the recipient country can provide the same degree of protection for the sensitive technology being released as the U.S. Government. This sale is necessary in furtherance of the U.S. foreign policy and national security objectives outlined in the Policy Justification.

4. All defense articles and services listed in this transmittal have been authorized for release and export to Poland.

[FR Doc. 2014-23076 Filed 9-26-14; 8:45 am]

BILLING CODE 5001-06-P`